DEPARTMENT OF THE INTERIOR

Fish and Wildlife Service

[FWS-R9-IA-2009-N0011; 96200-1672-0050-7D]

Proposed Information Collection; Evaluation of Great Ape Conservation Fund Grant Activities

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before March 30, 2009.

ADDRESSES: Send your comments on the IC to Hope Grey, Information Collection Clearance Officer, Fish and Wildlife Service, MS 222-ARLSQ, 4401 North Fairfax Drive, Arlington, VA 22203 (mail); hope_grey@fws.gov (e-mail).

FOR FURTHER INFORMATION CONTACT: To request additional information about this ICR, contact Hope Grey by mail, or e-mail (see ADDRESSES) or by telephone at (703) 358-2482.

SUPPLEMENTARY INFORMATION:

I. Abstract

The Fish and Wildlife Service (we, Service) has contracted with Frederick Sowers Consulting to conduct an independent evaluation of Great Ape Conservation Fund (GACF) grants. The evaluation will be limited to those grants we financed during Fiscal Years 2006 through 2008 through a $2.5 million/year resource transfer from the Agency for International Development in support of the Central Africa Regional Program for the Environment.

In the central African region, conservation efforts are focused around approximately 12 large landscapes where conservation organizations take the lead in a multi-stakeholder process of land use and conservation planning. We plan to survey the direct recipients of GACF grants and their associated partners (e.g. international and African conservation and development nongovernmental organizations, stakeholder groups, civic organizations, and other funding agencies). The survey will cover both leading partners and smaller implementing partners within the landscape.

The 74 grantees, who serve in direct contact with the public, are spread across five countries in the central African region. We plan to use an online survey as an efficient and minimally disruptive means of collecting information on grants management mechanics and operations and grantee performance in achieving conservation aims. The online survey will be open for an adequate period of time to allow respondents ample time to complete and update the survey questionnaire. We plan to collect:

(1) Basic demographic data about the institutions, such as the size of the organization, the length and duration of its presence in the landscape, the nature of its activities, and its relationship with other stakeholders.

(2) Information on the quality and nature of the relationships between grant recipients and the Government.

(3) Effectiveness of the program in contributing to conservation objectives.

II. Data

OMB Control Number: None. This is a new collection.

Title: Evaluation of Great Ape Conservation Fund Grant Activities.

Service Form Number(s): None.

Type of Request: New.

Affected Public: GACF grantees and associated partners (e.g., nongovernment organizations, stakeholder groups, civic organizations, and other funding agencies).

Respondent's Obligation: Voluntary.

Frequency of Collection: One time.

Total Annual Number of Responses: 160.

Completion Time per Response: 1.5 hours.

Total Annual Burden Hours: 240 hours.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: January 12, 2009
Hope Grey,
Information Collection Clearance Officer, Fish and Wildlife Service.

FR Doc. E9-1834 Filed 1-27-09; 8:45 am

BILLING CODE 4310-55-S